DEPARTMENT OF TRANSPORTATION

Federal Motor Carrier Safety Administration

[Docket No. FMCSA-2019-0012]

Qualification of Drivers; Exemption Applications; Vision

AGENCY: Federal Motor Carrier Safety Administration (FMCSA), DOT.

ACTION: Notice of denials.

SUMMARY: FMCSA announces its decision to deny applications from 124 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays.

SUPPLEMENTARY INFORMATION:

I. Public Participation

A. Viewing Documents and Comments

To view comments, as well as any documents mentioned in this notice as being available in the docket, go to http://www.regulations.gov. Insert the docket number, FMCSA-2019-0012, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

FMCSA received applications from 124 individuals who requested an exemption from the vision standard in the FMCSRs. FMCSA has evaluated the eligibility of these applicants and concluded that granting these exemptions would not provide a level of safety that would be equivalent to, or greater than, the level of safety that would be obtained by complying with the regulation 49 CFR 391.41(b)(10).

III. Basis for Exemption Determination

Under 49 U.S.C. 31136(e) and 31315, FMCSA may grant an exemption if it finds such an exemption would likely achieve a level of safety that is equivalent to, or greater than, the level that would be achieved absent such an exemption.

The Agency's decision regarding these exemption applications is based on the eligibility criteria, the terms and conditions for Federal exemptions, and an individualized assessment of each applicant's medical information provided by the applicant.

IV. Conclusion

The Agency has determined that these applicants do not satisfy the eligibility criteria or meet the terms and conditions of the Federal exemption and granting these exemptions would not provide a level of safety that would be equivalent to, or greater than, the level of safety that would be obtained by complying with the regulation 49 CFR 391.41(b)(10). Therefore, the 124 applicants in this notice have been denied exemptions from the physical qualification standards in 49 CFR 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following four applicants did not have sufficient driving experience over the past three years under normal highway operating conditions:

Kristopher K. Clements (ID)

David J. Freund (IA)

David F. Kirby (IN)

Thomas R. Muller (NY)

The following 42 applicants had no experience operating a CMV:

Mahboob Ahmed (CA)

Kadhim N. Al-Hisnawi (WA)

Yesid Archila (NC)

Timothy K. Atchison (MD)

Christian B. T. Baker (FL)

Michael J. Baragona (NY)

David G. Beistel (PA)

Kelvin Brown (DC)

Robert A. Burbank (AL)

Rico J. Butler (IL)

Daniel E. Caldwell (KY)

Diego Carrillo (NJ)

Raynordor J. Clemons (AL)

Jehu Collins (NC)

Kit A. Collman (TX)

Tavanlis L. Cue (SC)

William A. Delaney (CO)

Kevin A. DeMarco (PA)

Johnny J. Domingue (LA)

Travis R. Faust (WI)

Alfonso Franco (CA)

Pavel G. Fursov (IA)

Paul M. Hanson (MO)

Juan C. Iberra (IL)

David W. Ivinson (MO)

Zina R. Lockhart (IL)

Spencer C. Long (AL)

Zachary T. Louden (KY)

Francisco E. Loza Espinoza (TX)

Musse H. Mohamed (MN)

Charles T. Mudd (KY)

Christopher D. Rader (TN)

Alex M. Rodriguez (NY)

Marquitta L. Rowser (GA)

Jeffrey A. Rujawitz (MO)

Michael R. Schmidt (PA)

Miguel A. Solis Delgado (TX)

Robyn M. Sowash (MO)

Joseph L. Vespertino (NY)

Joshua J. Vrenna (NY)

Linda K. Williams (KS)

Bobby Williams-Boleyn (CA)

The following 20 applicants did not have three years of experience driving a CMV on public highways with their vision deficiencies.

Paul M. Bollinger (AR)

William E. Cherubini (PA)

Karl C. Christenson (MN)

Paul Clauer (WI)

Jason X. Colon-Santiago (PA)

Richard E. Freeman (MO)

Lorie Furno (TX)

Leslie J. Hall (MT)

David H. Helstein (VT)

Rodney M. Kiehm (CA)

Rhett L. Lomax (KS)

Tracy L. McKeag (IL)

Darrell M. Monti (CA)

Richard L. Nelson (MN)

Clinton S. Oller (IL)

George W. Parrish (OR)

Jason C. Stubbe (MN)

John D. Thompson (AR)

Johnathan D. Williams (MD)

George D. Young (LA)

The following 11 applicants did not have three years of recent experience driving a CMV on public highways with their vision deficiencies

Roy L. Alexander (AL)

Antonio A. Armijo (NM)

Matthew A. Edmonds (OH)

Gregory D. Hood (GA)

Joseph W. Martin (PA)

John R. Ogno (NJ)

Stuart A. Osborne (VA)

Thomas E. Oswald (PA)

Richard A. Pearce (OH)

James E. Robinson (GA)

Gary L. Smith (AR)

The following 14 applicants did not have sufficient driving experience over the past three years under normal highway operating conditions (gaps in driving record)

Isaac Brown (FL)

Donald Carrillo (NM)

Steven M. Claney (IA)

James W. Dennis (KS)

Jeffery S. Henderson (TX)

Rickey W. Hubbard (AL)

Larry N. Ingerson (NV)

Edward A. Iverson (ND)

Eugene F. Napieralski (MN)

Louis L. Peregrina (NM)

Faron D. Seaman (TX)

John G. Sitzmann (IA)

Fletcher J. Stockwell (WI)

David W. Vaccaro (MN)

The following two applicants were charged with moving violations in conjunction with CMV accidents:

Victor H. Lopez-Campa (KS); and Albert M. Randle (TX)

The following applicant, Rodney D. Williams (IN), does not have sufficient peripheral vision in the better eye.

The following applicant, Albert L. Bowen (AR), did not have an optometrist or ophthalmologist willing to make a statement that they are able to operate a commercial vehicle from a vision standpoint.

The following 19 applicants were denied for multiple reasons:

Logan A. Ambuski (NY)

Paul B. Conway (NC)

Daryl R. Cupp (FL)

Gabriel A. Deeb (TX)

William F. Furr (NC)

Jose R. Gutierrez (NV)

Bryan M. Hinds (WA)

Sefik Kladanjcic (CT)

James R. Long (FL)

Stacey D. Mason (OH)

Gary G. Medeiros (ID)

Douglas M. Proffitt (IA)

Rickie C. Purnell (NC)

Derrick A. Robinson (AL)

Rodney C. Sall (NE)

Joshua D. Vance (IN)

Michael M. Warzeha (MN)

Robert W. Wilkins (PA)

Michael S. Williams (VA)

The following eight applicants have not had stable vision for the preceding three-year period:

David A. Behrens (IA)

Michael E. Fobian (NJ)

Holland P. McLaughlin (NY)

Robert E. Nichols (NV)

Robert D. Owen (LA)

Gerald Thurman (ID)

Timothy M. Wagner (PA)

Steve D. Wooten (NC)

The following two applicants drove interstate while restricted to intrastate driving:

Jeffrey Skaggs (OK); and Eddie G. Thornton (GA)

Issued on: July 26, 2019.
Larry W. Minor,
Associate Administrator for Policy.

[FR Doc. 2019-16645 Filed 8-2-19; 8:45 am]

BILLING CODE 4910-EX-P